DEPARTMENT OF AGRICULTURE

Forest Service

Sierra Vista Ranger District; Coronado National Forest; Arizona; Hermosa Critical Minerals Project

AGENCY: Forest Service, Agriculture (USDA).

ACTION: Notice of intent to prepare an environmental impact statement.

SUMMARY: The USDA Forest Service, Coronado National Forest, is preparing an environmental impact statement (EIS) to evaluate and disclose the potential environmental effects from the proposed Hermosa Critical Minerals Exploration and Mine Plan of Operations, submitted by South32 Hermosa Inc. (proponent), to occupy and use National Forest System lands for operations associated with an expansion of an underground polymetallic development. The proposed mine plan of operations (MPO) may also require an amendment to the 2018 Coronado National Forest Land and Resource Management Plan (forest plan) to include site-specific exceptions to plan direction to accommodate the proposed exploration and mining operations. The Forest Service is providing this public scoping opportunity to gather information to inform the environmental review and decision-making process.

DATES: Comments concerning the scope of the analysis must be received by June 10, 2024. The draft EIS is expected May 2025 and the final EIS is expected February 2026.

ADDRESSES: Comments can be submitted electronically using the Public Comment Form at https://cara.fs2c.usda.gov/Public//CommentInput?Project=65668. Written comments may be submitted via mail or hand delivery (Monday through Friday, 8 a.m. to 4:30 p.m., excluding Federal holidays) to Kerwin S. Dewberry, Forest Supervisor, Coronado National Forest, ATTN: Hermosa Critical Minerals Project, 300 West Congress Street, Tucson, AZ 85701. Written comments may also be submitted during public scoping meetings (see “Scoping Comments and the Objection Process”).

FOR FURTHER INFORMATION CONTACT: Edwin Monin, Project Manager, Coronado National Forest, 300 West Congress Street, Tucson, AZ 85701, by email at edwin.monin@usda.gov or by phone at 520-388-8300, between 8 a.m. and 4:00 p.m. Mountain Standard Time, Monday through Friday. Individuals who use telecommunication devices for the deaf (TDD) may call the Federal Information Relay Service (FIRS) at 800-877-8339, 24 hours a day, every day of the year, including holidays.

SUPPLEMENTARY INFORMATION: The proposed MPO was submitted by the proponent in accordance with 36 CFR part 228, subpart A. The Forest Service finished the review process for MPO completeness for elements required under 36 CFR 228.4(c). The MPO dated December 1, 2023, was formally accepted as administratively complete on December 15, 2023. For complete details, please refer to the proposed MPO online at https://www.fs.usda.gov/project/coronado/?project=65668.

After evaluating the proposed MPO, the Forest Service determined that the decision for whether to approve use of National Forest System lands would be a major Federal action subject to the National Environmental Policy Act (NEPA), as defined in 40 CFR 1508.1. Accordingly, the Forest Service will prepare an EIS to document key issues associated with the MPO, consider and assess reasonable alternatives, evaluate and disclose potential environmental effects, propose mitigation necessary to minimize adverse impacts, and ensure compliance with applicable laws, regulations, and policy. Therefore, the Forest Service is fulfilling statutory requirements and agency policy and direction to comply with NEPA and other relevant authorities.

Purpose and Need for Action

The Forest Service's purpose for the action is to decide whether to approve the proponent's December 1, 2023, proposed MPO for surface use of National Forest System lands in connection with operations authorized by U.S. mining laws (30 U.S.C. 21-54).

The Forest Service's need for action is established by the agency's responsibility under the General Mining Law of 1872, as amended, and the agency's locatable mineral regulations (36 CFR part 228, subpart A). In accordance with 36 CFR 228.5, the Forest Service must analyze and provide timely response to the submittal of an MPO. Furthermore, the Forest Service must assess whether the proposed operations will be conducted so as, where feasible, to minimize adverse environmental impacts on national forest surface resources in accordance with 36 CFR 228.8.

Proposed Action

The Forest Supervisor for the Coronado National Forest (responsible official) must decide whether to approve the MPO submitted by the proponent, and whether to require any modifications determined necessary through the analysis to comply with applicable laws and regulations. As described in the MPO, the proposed action would affect Federal and private lands comprised of patented mining claims owned by the proponent. However, the Forest Service only has the authority to regulate surface operations on National Forest System lands and does not have jurisdiction to regulate mining operations underground or those that occur on private land. Nevertheless, the EIS will consider and disclose environmental effects of any connected action, including mining-related operations that would occur on private lands. Other actions potentially related to the MPO will be considered in the process, including but not limited to Clean Water Act permitting by the U.S. Army Corp of Engineers and the Arizona Department of Environmental Quality in addition to related amendments to the Coronado National Forest Land and Resource Management Plan.

Project Location

The proposed MPO (project) is located within the Patagonia Mountains in southern Arizona. The project is located in an unincorporated part of central Santa Cruz County, approximately 6 miles southeast of the town of Patagonia and about 8 miles north of the U.S.-Mexico international border. Nearby communities include Kino Springs, Nogales, Rio Rico, and Sonoita.

Project Description

The proposed action would continue the historic production of minerals within the Harshaw Mining District. The primary minerals targeted by the proponent are manganese and zinc, which are identified by the United States Geological Survey as critical minerals in the 2022 Final List of Critical Minerals (87 FR 10381). The Energy Act of 2020 defines a “critical mineral” as a non-fuel mineral or mineral material essential to the economic or national security of the United States and which has a supply chain vulnerable to disruption. The proponent's proposed activities on or beneath National Forest System lands are an expansion of the current operations on the proponent's adjacent private land, with a proposed surface disturbance of 480.5 acres, an underground disturbance of 223 acres, and restricted access to 353.4 acres. Figure 2-1 included in the MPO depicts the proposed site plan and facilities on both private and National Forest System lands. The following MPO activities are proposed on or beneath National Forest System lands.

Surface exploration—

• Continued definition of the ore body within the footprint of tailings storage facility 2 and in other locations. This includes construction of temporary drill pads and access roads. Where future surface disturbance is not contemplated, drill pads and access roads would be reclaimed.

Underground exploration, mining, and support operations—

• Construction of underground tunnels and infrastructure.

• Underground mining of ore using the long-hole open stoping method, as well as hauling and crushing of sulfide ore so it can be brought to the surface.

• Use of approximately half of the tailings for mixing of cemented paste backfill (comprising filtered tailings, cement, and water) and return of material via pipe for backfill underground.

• Underground equipment use and maintenance.

• Continued definition of the orebody through exploration drilling from underground workings.

Surface storage of tailings and waste rock—

• Geotechnical drilling and test pits to support development of tailings storage facility 2, a lined dry-stack tailings storage facility on National Forest System land.

• Construction, use, and closure of the lined dry-stack tailings storage facility 2 for storage of both filtered tailings and waste rock, as well as other small quantities of materials such as solids from the water treatment plants. The lined tailings storage facility includes infrastructure for management of stormwater runoff and seepage.

• Construction, use, and closure of an underdrain collection pond for the lined dry-stack tailings storage facility 2, including a lined drainage conveyance channel leading to the storage facility's underdrain collection pond.

• Transportation and placement of filtered tailings and waste rock materials into tailings storage facility 2.

• Construction and use of water distribution pipelines and associated tailings storage facility 2 underdrain collection pond to convey collection pond water for treatment.

• Construction and use of the project electrical distribution lines, including lines to tailings storage facility 2 and the storage facility's underdrain collection pond.

Water management activities—

• Construction of groundwater management wells on the surface and construction of water management infrastructure (sumps, pumps) underground.

• Collection of water for groundwater management purposes to reduce hydrostatic pressures to allow underground exploration and mining, either by pumping groundwater management wells or by collection underground.

• Construction, operation, and maintenance of piping and power lines associated with groundwater management wells.

• Construction of permanent monitoring wells to observe water quality and level and comply with regulatory requirements.

• Recharge of treated water in areas that would benefit the aquifer using rapid infiltration basins, including water delivery pipelines.

• Construction of stormwater controls to reroute non-contact runoff and contain contact water.

Roads and transportation—

• Geotechnical drilling and/or test pits to support construction of the primary access road.

• Construction of a new and permanent primary access road from the project area to State Route 82 (where feasible, limiting new disturbance by improving existing Forest Road segments).

• Construction of temporary access roads including (1) those associated with facility access and exploration that would be closed and reclaimed during the operational mine life, causing a short-term temporary disturbance (short-term temporary access roads); and (2) those associated with facility access, groundwater management wells, monitoring wells, connecting haul roads, or rapid infiltration basins that would remain through the operational mine life until closure, involving a long-term disturbance (long-term temporary access roads).

• Upgrade of some existing roads to meet similar criteria used for temporary access roads.

• Transportation of equipment, materials, supplies, and personnel to and from the project area using existing Forest Roads, the primary access road, and temporary access roads.

• Transportation of filtered zinc and lead and silver concentrates off-site in sealed containers.

• Transportation of crushed oxide ore in sealed containers to beneficiation facilities on private land distal from the project area.

• Construction and maintenance of fencing and berms as required for worker and public safety. This includes construction of temporary roads along four planned fence locations for construction and maintenance.

Reclamation and closure activities—

• Salvage and storage of growth media for use in reclamation.

• Closure of the dry-stack tailings storage facility 2 and storage facility's underdrain collection pond upon completion of operations, including placing a closure cap and growth media on tailings storage facility 2, implementing passive treatment for seepage associated with the storage facility, and stormwater management controls.

• Abandonment (proper closure) of groundwater management wells, and closure and reclamation of groundwater management well pads.

• Closure and reclamation of all temporary access roads, exploration drill holes, pads, and rapid infiltration basins.

• Long-term monitoring activities.

Preliminary Alternatives

In addition to the proposed action, two additional alternatives have been identified for detailed study including the no-action alternative and alternative 1. The no-action alternative is the alternative where the Forest Service does not approve the proposed MPO and represents what operations could still occur on private land. This alternative serves as the baseline for the comparison among the action alternatives. Alternative 1 includes the MPO and a proposal from UniSource Energy Services to construct a 138-kV overhead transmission line to serve the project area and support service reliability for UniSource customers in the San Rafael Valley, Washington Camp, and Lochiel areas of southeastern Arizona. Comments received in response to this Notice of Intent may result in identification of additional reasonable alternatives.

Plan Amendment

The proposed action includes activities that may require a forest plan amendment to include site-specific exceptions to plan direction to accommodate the proposed action. The proposed action may include, but is not limited to, a forest plan amendment to allow a reduction in the scenic integrity objectives for the project area (2018 Coronado National Forest Land and Resource Management Plan, page 82). Additionally, a forest plan amendment may be required to allow major aboveground utility corridor development outside of the area identified and mapped in the 2008 West-Wide Energy Corridor Programmatic EIS as referenced in the 2018 Coronado National Forest Land and Resource Management Plan (pages 83 and 85).

The responsible official plans to release the draft record of decision in conjunction with the final EIS. The draft decision would be subject to 36 CFR part 218, “Project-Level Pre-decisional Administrative Review Process.” Depending on the nature of the forest plan amendment(s) required, the draft decision may also be subject to 36 CFR part 219, subpart B, “Pre-decisional Administrative Review Process.” Following resolution of objections to the draft decision, the final decision would be issued.

Expected Impacts

It is anticipated that there would be impacts to water quality and quantity; scenery; threatened, endangered, and other special status species and their habitats; effects from drilling and mining activities such as noise and lights used for nighttime drilling; impacts to air quality; and increased traffic. This is a preliminary issues list with additional issues to be identified through the scoping process.

Lead and Cooperating Agencies

The Forest Service is the lead agency for the proposed action and compliance with NEPA. The Coronado National Forest has identified, invited, and received acceptance from four cooperating agencies to include the U.S. Army Corps of Engineers, the U.S. Fish and Wildlife Service, the Arizona Department of Environmental Quality, and the Arizona State Historic Preservation Office.

Responsible Official

The responsible official for the decision on this project is Kerwin S. Dewberry, Forest Supervisor, Coronado National Forest, 300 West Congress Street, Tucson, Arizona 85701.

Scoping Comments and the Objection Process

This notice of intent initiates the scoping process, which guides the development of the EIS. In this process, the agency is requesting comments on potential issues and alternatives in addition to identification of any relevant information, studies, or analyses of any kind concerning impacts affecting the quality of the human environment. Public scoping meetings in an open house format will be held as follows:

1. May 20, 2024, 4:30 to 6:30 p.m., Patagonia Union High School, 200 Naugle Ave., Patagonia, Arizona

2. May 21, 2024, 4:30 to 6:30 p.m., Quality Hotel Americana, 639 N Grand Ave., Nogales, Arizona

Meeting details will also be posted on the Coronado National Forest website and advertised in the Arizona Daily Star, Herald/Review, Nogales International, and Patagonia Regional Times.

It is important that reviewers provide their comments at such times and in such manner that they are useful to the agency's preparation of the EIS; therefore, comments should be provided prior to the close of the comment period and should clearly articulate the reviewer's concerns and contentions. Commenting during scoping and any other designated opportunity to comment provided by the responsible official as prescribed by the applicable regulations will also govern eligibility to object once the final EIS and draft record of decision has been published. Comments received in response to this solicitation, including names and addresses of those who comment, will be part of the public record for this proposed action. Comments submitted anonymously will be accepted and considered; however, they will not be used to establish eligibility for the objection process.

Objections will be accepted only from those who have previously submitted specific written comments regarding the proposed project during scoping or other designated opportunity for public comment in accordance with 36 CFR 218.5(a). Issues raised in objections must be based on previously submitted timely, specific written comments regarding the proposed project unless based on new information arising after designated opportunities.

Permits, Licenses, or Other Authorizations Required

The MPO may require other permits, licenses, and authorizations including but not limited to a Clean Water Act Section 404 Permit from the U.S. Army Corps of Engineers; an Underground Injection Control Permit from the U.S. Environmental Protection Agency; an Encroachment Permit from the Arizona Department of Transportation; a Reclamation Plan and annual renewal from the Arizona State Mine Inspector; and the following permits from the Arizona DEQ—Air Quality Permit, Arizona Pollutant Discharge Elimination System Permit, Aquifer Protection Permit, Arizona Water Quality Certification under section 401 of the Clean Water Act, and Resource Conservation and Recovery Act Subtitle C Site Identification Form.

Nature of Decision To Be Made

Based on environmental analysis and disclosure documented in the EIS, the responsible official will decide: (1) whether to approve the MPO as proposed or modified, or as described in an alternative; (2) what mitigation measures, if needed, would be required; (3) what monitoring, if any, would be required; and (4) whether approval of an action alternative would be consistent with the 2018 Coronado National Forest Land and Resource Management Plan or whether an amendment to the forest plan would be required.

Substantive Provisions

Any proposed forest plan amendment(s) would meet the substantive requirements for sustainability (36 CFR 219.8), species diversity (36 CFR 219.9), multiple use (36 CFR 219.10), and timber (36 CFR 219.11).

Dated: May 2, 2024.
Troy Heithecker,
Associate Deputy Chief, National Forest System.

[FR Doc. 2024-10048 Filed 5-9-24; 8:45 am]

BILLING CODE 3411-15-P